DEPARTMENT OF LABOR

Employment and Training Administration

[TA-W-55,394]

Technical Associates Employed at Prestolite Wire Corporation, Tifton, Georgia; Notice of Termination of Investigation

Pursuant to section 221 of the Trade Act of 1974, as amended, an investigation was initiated on August 6, 2004 in response to a petition filed by a state representative on behalf of workers of Technical Associates employed at Prestolite Wire Corporation, Tifton, Georgia.

The petitioning worker is covered by an active certification for workers of Prestolite Wire Corporation, Tifton, Georgia, issued on June 29, 2004 and which remains in effect (TA-W-55,061 as amended). Consequently, further investigation in this case would serve no purpose, and the investigation has been terminated.

Signed at Washington, DC this 12th day of August, 2004.
Richard Church,
Certifying Officer, Division of Trade Adjustment Assistance.

[FR Doc. 04-19102 Filed 8-19-04; 8:45 am]

BILLING CODE 4510-30-P